DEPARTMENT OF LABOR

Employment and Training Administration

[TA-W-91,039]

Foxconn Assembly, LLC, Houston, Texas: Notice of Affirmative Determination Regarding Application for Reconsideration

By application dated December 9, 2015, the Department of Labor (Department) received a request for administrative reconsideration of the Department's Notice of Termination of Investigation regarding workers' eligibility to apply for Trade Adjustment Assistance (TAA) applicable to workers and former workers of the subject firm. The determination was issued on November 13, 2015. The determination was based on the Department's finding that the petitioning workers are eligible to apply for adjustment assistance under an existing certification.

In the request for reconsideration, the State of Texas stated that the workers who filed the petition are not part of the certified worker group at 8801 Fallbrook Drive, Houston, Texas but are part of a separately identifiable worker group at 8807 Fallbrook Drive, Houston, Texas.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 20th day of May, 2016.
Del Min Amy Chen,
Certifying Officer, Office of Trade Adjustment Assistance.

[FR Doc. 2016-18406 Filed 8-3-16; 8:45 am]

BILLING CODE P